DEPARTMENT OF ENERGY

Federal Energy Regulatory Commission

[Docket Nos. CP17-20-000; CP17-21-000; CP17-21-001; CP18-7-000]

Notice of Availability of the Draft Environmental Impact Statement for the Proposed Port Arthur Liquefaction Project, Texas Connector Project, and Louisiana Connector Project: Port Arthur LNG, LLC, PALNG Common Facilities Company LLC, Port Arthur Pipeline, LLC

The staff of the Federal Energy Regulatory Commission (FERC or Commission) has prepared a draft environmental impact statement (EIS) for the Port Arthur Liquefaction Project proposed by Port Arthur LNG, LLC and PALNG Common Facilities Company LLC (collectively referred to as PALNG), and the Texas Connector Project and Louisiana Connector Project proposed by Port Arthur Pipeline, LLC (PAPL) in the above-referenced dockets. PALNG requests authorization pursuant to section 3(a) of the Natural Gas Act (NGA) to construct and operate liquefied natural gas (LNG) export facilities in Jefferson County, Texas, and PAPL requests a Certificate of Public Convenience and Necessity pursuant to section 7(c) of the NGA to construct, operate, and maintain certain natural gas pipeline facilities in Jefferson and Orange Counties, Texas and Cameron, Calcasieu, Beauregard, Allen, Evangeline, and St. Landry Parishes, Louisiana. Together, these proposed facilities are referred to as “the Projects.”

The draft EIS assesses the potential environmental effects of the construction and operation of the Projects in accordance with the requirements of the National Environmental Policy Act (NEPA). The FERC staff concludes that approval of the proposed Projects, with the mitigation measures recommended in the EIS, would have some adverse environmental impact; however, these impacts would be avoided or reduced to less-than-significant levels.

The U.S. Army Corps of Engineers, U.S. Coast Guard, U.S. Department of Energy, U.S. Environmental Protection Agency, and the U.S. Department of Transportation's Pipeline and Hazardous Materials Safety Administration participated as cooperating agencies in the preparation of the EIS. Cooperating agencies have jurisdiction by law or special expertise with respect to resources potentially affected by the proposal and participate in the NEPA analysis. Although the cooperating agencies provided input to the conclusions and recommendations presented in the draft EIS, the agencies will present their own conclusions and recommendations in their respective Records of Decision for the Projects.

The draft EIS addresses the potential environmental effects of the construction and operation of the following proposed facilities:

• Two liquefaction trains, each with a capacity of 6.73 million tons per annum of LNG for export;

• Three LNG storage tanks, each with a capacity of 160,000 cubic meters;

• A refrigerant storage area and truck unloading facilities;

• A condensate storage area and truck loading facilities;

• A new marine slip with two LNG vessel berths, an LNG vessel and support vessel maneuvering area, and an LNG transfer system;

• A materials off-loading facility and Pioneer Dock;

• Approximately 34.2 miles of 42-inch-diameter pipeline to bring feed gas from interconnections with Kinder Morgan Louisiana Pipeline LLC, Natural Gas Pipeline Company of America, Houston Pipeline Company LP, Texas Eastern Transmission, LP (TETCO), Florida Gas Transmission Company, LLC, and Golden Triangle Storage, Inc./Centana Intrastate Pipeline, LLC to the terminal site;

• Approximately 130.8 miles of 42-inch-diameter pipeline to bring feed gas from interconnections with Centana Interstate Pipeline, LP, TETCO, Tennessee Gas Pipeline Company, Market Hub Partners—Egan, Pine Prairie Energy Center, Texas Gas Transmission, LLC, ANR Pipeline Company, and Columbia Gulf Transmission, LLC to the terminal site;

• Three compressor stations;

• Meter stations at the pipeline interconnects; and

• Other associated utilities, systems, and facilities (yards, access roads, etc.).

The Commission mailed a copy of the Notice of Availability to federal, state, and local government representatives and agencies; elected officials; environmental and public interest groups; Native American tribes; potentially affected landowners and other interested individuals and groups; and newspapers and libraries in the project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e. CP17-20, CP17-21, or CP18-7). Be sure you have selected an appropriate date range. For assistance, please contact FERC Online Support at FercOnlineSupport@ferc.gov or toll free at (866) 208-3676, or for TTY, contact (202) 502-8659.

Any person wishing to comment on the draft EIS may do so. Your comments should focus on draft EIS's disclosure and discussion of potential environmental effects, reasonable alternatives, and measures to avoid or lessen environmental impacts. To ensure consideration of your comments on the proposal in the final EIS, it is important that the Commission receive your comments on or before 5:00 p.m. Eastern Time on November 19, 2018.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Projects docket numbers (CP17-20-000, CP17-21-000, and CP18-7-000) with your submission: Kimberly D. Bose, Secretary, Federal Energy Regulatory Commission, 888 First Street NE, Room 1A, Washington, DC 20426.

(4) In lieu of sending written or electronic comments, the Commission invites you to attend one of the public comment sessions its staff will conduct in the Projects area to receive comments on the draft EIS, scheduled as follows:

Date and time | Location
Tuesday, October 16, 2018, 4:00-7:00 p.m. local time | Coushatta Golf Course, Veranda Room, 777 Koasati Dr., Kinder, LA 70648, 337-738-4777.
Wednesday, October 17, 2018, 4:00-7:00 p.m. local time | Hampton Inn & Suites, Meeting Room, 7660 Memorial Blvd., Port Arthur, TX 77642, 409-722-6999.
Thursday, October 18, 2018, 4:00-7:00 p.m. local time | Holiday Inn Lake Charles W—Sulphur, Ballrooms 1, 2, and 3, 330 Arena Rd., Sulphur, LA 70665, 337-527-0858.

The primary goal of these comment sessions is to have you identify the specific environmental issues and concerns with the draft EIS. Individual verbal comments will be taken on a one-on-one basis with a court reporter. This format is designed to receive the maximum amount of verbal comments in a convenient way during the timeframe allotted.

Each scoping session is scheduled from 4:00 p.m. to 7:00 p.m. local time. You may arrive at any time after 4:00 p.m. There will not be a formal presentation by Commission staff when the session opens. If you wish to speak, the Commission staff will hand out numbers in the order of your arrival. Comments will be taken until 7:00 p.m. However, if no additional numbers have been handed out and all individuals who wish to provide comments have had an opportunity to do so, staff may conclude the session at 6:30 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commentor.

It is important to note that verbal comments hold the same weight as written or electronically submitted comments. Although there will not be a formal presentation, Commission staff will be available throughout the comment session to answer your questions about the environmental review process.

Any person seeking to become a party to the proceeding must file a motion to intervene pursuant to Rule 214 of the Commission's Rules of Practice and Procedures (18 CFR part 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding that no other party can adequately represent. Simply filing environmental comments will not give you intervenor status, but you do not need intervenor status to have your comments considered.

Questions?

Additional information about the Projects is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 28, 2018.
Kimberly D. Bose,
Secretary.

[FR Doc. 2018-21778 Filed 10-5-18; 8:45 am]

BILLING CODE 6717-01-P